DEPARTMENT OF TRANSPORTATION

Federal Aviation Administration

14 CFR Part 39

[Docket No. FAA-2004-19891; Directorate Identifier 2004-NM-136-AD; Amendment 39-14006; AD 2005-05-17]

RIN 2120-AA64

Airworthiness Directives; Boeing Model 737-300, -400, and -500 Series Airplanes Modified in Accordance With Supplemental Type Certificate (STC) ST00127BO

AGENCY: Federal Aviation Administration (FAA), Department of Transportation (DOT).

ACTION: Final rule; correction.

SUMMARY: The FAA is correcting a typographical error in an existing airworthiness directive (AD) that was published in the Federal Register on March 14, 2005 (70 FR 12401). The error resulted in specifying a non-existing part number. This AD applies to Boeing Model 737-300, -400, and -500 series airplanes modified in accordance with STC ST00127BO. This AD requires installation of bonding straps to the safe side harnesses of the digital transient suppression device of the fuel quantity indicating system.

DATES: Effective April 18, 2005.

ADDRESSES: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19891; the directorate identifier for this docket is 2004-NM-136-AD.

FOR FURTHER INFORMATION CONTACT: Richard Spencer, Aerospace Engineer, Boston Aircraft Certification Office, ANE-150, FAA, Engine and Propeller Directorate, 12 New England Executive Park, Burlington, Massachusetts 01803; telephone (781) 238-7184; fax (781) 238-7170.

SUPPLEMENTARY INFORMATION: On March 2, 2005, the FAA issued AD 2005-05-17, amendment 39-14006 (70 FR 12401, March 14, 2005), for Boeing Model 737-300, -400, and -500 series airplanes modified in accordance with Supplemental Type Certificate (STC) ST00127BO. The AD requires installation of bonding straps to the safe side harnesses of the digital transient suppression device of the fuel quantity indicating system.

As published, paragraph (g) of the AD specifies that, “As of the effective date of this AD, no person may install a safe side harness, Part Number 50357-01XX, on any airplane, unless that safe side harness has been modified in accordance with Goodrich Service Bulletin 737-300766-28-2, Revision 2, dated July 28, 2004.” We have determined that 50357-01XX is not an existing part number, and that the correct part number is 50367-01XX.

No other part of the regulatory information has been changed; therefore, the final rule is not republished in the Federal Register.

The effective date of this AD remains April 18, 2005.

§ 39.13 [Corrected]

In the Federal Register of March 14, 2005, on page 12402, in the first column, paragraph (g) of AD 2005-05-17 is corrected to read as follows:

* * * * *

(g) As of the effective date of this AD, no person may install a safe side harness, Part Number 50367-01XX, on any airplane, unless that safe side harness has been modified in accordance with Goodrich Service Bulletin 737-300766-28-2, Revision 2, dated July 28, 2004.

* * * * *

Issued in Renton, Washington, on April 19, 2005.
Ali Bahrami,
Manager, Transport Airplane Directorate, Aircraft Certification Service.

[FR Doc. 05-8402 Filed 4-27-05; 8:45 am]

BILLING CODE 4910-13-P